DEPARTMENT OF TRANSPORTATION

Pipeline and Hazardous Materials Safety Administration

Pipeline Safety Advisory: Potential for Damage to Natural Gas Distribution Pipeline Facilities Caused by the Passage of Hurricane Katrina

AGENCY: Pipeline and Hazardous Materials Safety Administration (PHMSA), DOT.

ACTION: Notice; issuance of advisory bulletin.

SUMMARY: PHMSA is issuing this advisory bulletin to owners and operators of natural gas distribution pipeline facilities to communicate the potential for damage to pipeline facilities caused by the passage of Hurricane Katrina on August 29, 2005.

ADDRESSES: This document can be viewed on the Office of Pipeline Safety (OPS) Home page at: http://ops.dot.gov.

FOR FURTHER INFORMATION CONTACT: Joy Kadnar, (202) 366-0568, or by e-mail at Joy.Kadnar@dot.gov.

SUPPLEMENTARY INFORMATION:

I. Background

The purpose of this advisory bulletin is to warn all operators of natural gas distribution pipeline facilities that safety problems may have been caused by the passage of Hurricane Katrina on August 29, 2005.

Past instances of flooding have resulted in significant pipeline system damage including exposed pipes, failure of pipelines crossing rivers and streams, damage to meter sets, pipeline leaks from soil movement, and water leaking into pipeline systems. Due to the storm surge and extensive flooding caused by Hurricane Katrina, extensive damage to facilities may be expected.

The Federal pipeline safety regulations (49 CFR part 192) require operators to shut down and start up pipeline facilities in a safe manner and to conduct periodic pipeline patrols to detect unusual operating and maintenance conditions and to take corrective action if conditions are unsafe.

Gas pipeline safety regulations require that operators mitigate the safety condition if a pipeline facility is damaged. The regulations require damaged pipeline facilities be repaired or replaced as necessary to eliminate the hazard, and that damage resulting in a death or injury or exceeding $50,000 must be promptly reported to the National Response Center (NRC) at 1-800-424-8802.

II. Advisory Bulletin (ADB-05-07)

To: Owners and operators of natural gas distribution pipeline facilities.

Subject: Potential for damage to natural gas distribution pipeline facilities caused by the passage of Hurricane Katrina.

Advisory: All operators of natural gas distribution pipeline facilities in the states of Louisiana, Mississippi, Alabama, and Florida are warned that pipeline safety problems may have been caused by the passage of Hurricane Katrina on August 29, 2005. Likely problems include but are not limited to damage of above ground equipment due to flooding and flying debris, damage to buried pipelines from soil movement, and water leaking into low pressure pipelines.

Pipeline operators are urged to take the following actions to ensure personal and environmental safety and the integrity of natural gas distribution pipeline facilities located in areas impacted by Hurricane Katrina:

1. Conduct additional leak surveys and inspection of above ground equipment as necessary to detect any damage which may have occurred.

2. For distribution systems or portions of systems that have been shut down, check for damage to piping, valves, emergency shutdown systems, risers and meter sets prior to restoring system operation and relighting customers.

3. Check for water that may have leaked into low pressure systems.

4. Identify and correct any conditions on the pipeline as required by the Federal pipeline safety regulations. (49 U.S.C. Chapter 601; 49 CFR 1.53).

Issued in Washington, DC on August 31, 2005.
Joy Kadnar,
Director of Engineering and Engineering Support.

[FR Doc. 05-17653 Filed 9-6-05; 8:45 am]

BILLING CODE 4910-60-P